DEPARTMENT OF ENERGY

Federal Energy Regulatory Commission

[Project No. 12962-002; Project No. 12958-002]

Newburgh Hydro, LLC, Uniontown Hydro, LLC; Notice of Availability of Environmental Assessment

In accordance with the National Environmental Policy Act of 1969 and the Federal Energy Regulatory Commission (Commission or FERC) regulations, 18 CFR part 380 (Order No. 486, 52 FR 47897), the Office of Energy Projects has reviewed the applications for original licenses for the proposed Uniontown Lock and Dam Hydroelectric Project (FERC Project No. 12958-002) and Newburgh Lock and Dam Hydroelectric Project (FERC Project No. 12962-002). The projects would be located on the Ohio River at existing U.S. Army Corps of Engineer's locks and dams. The Uniontown Project would be located at the John T. Myers Locks and Dam, in Union County, Kentucky and Posey County, Indiana. The Newburgh Project would be located at the Newburgh Locks and Dam, in Henderson County, Kentucky and Warrick County, Indiana.

Staff have prepared a multi-project environmental assessment (EA), which analyzes the potential environmental effects of licensing the projects, and have concluded that licensing the projects, with appropriate environmental protection measures, would not constitute a major federal action that would significantly affect the quality of the human environment.

A copy of the EA is available for review at the Commission in the Public Reference Room or may be viewed on the Commission's Web site at www.ferc.gov using the “eLibrary” link. Enter the docket number, excluding the last three digits, in the docket number field to access each document. For assistance, contact FERC Online Support at FERCOnlineSupport@ferc.gov; toll-free at 1-866-208-3676, or for TTY, 202-502-8659.

You may also register online at www.ferc.gov/docs-filing/esubscription.asp to be notified via email of new filings and issuances related to these or other pending projects. For assistance, contact FERC Online Support.

Any comments on the EA should be filed within 30 days from the date of this notice. The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Secretary, Federal Energy Regulatory Commission, 888 First Street NE., Washington, DC 20426. The first page of any filing should include docket number P-12958-002 and/or 12962-002.

FOR FURTHER INFORMATION CONTACT: Emily Carter at (202) 502-6512.

Dated: March 6, 2014.
Kimberly D. Bose,
Secretary.

[FR Doc. 2014-05422 Filed 3-11-14; 8:45 am]

BILLING CODE 6717-01-P